ELECTION ASSISTANCE COMMISSION

Meeting Notice

AGENCY: U.S. Election Assistance Commission.

ACTION: Notice of Public Quarterly Conference Call for EAC Board of Advisors.

Date & Time: Monday, August 27, 2018, 2:00-4:00 p.m. (EDT).

Place: EAC Board of Advisers Quarterly Conference Call.

To listen and monitor the event as an attendee:

1. Go to https://eac-events1.webex .com/eac-events1/onstage/g.php? MTID=ec83717964d45339901d1730a10f80ed0

2. Click “Join Now”.

To join the audio conference only:

1. To receive a call back, provide your phone number when you join the event, or

2. call the number below and enter the access code.

U.S. Toll Free: +1-855-749-4750

U.S. Toll: +1-415-655-0001

Access code: 666 148 037

(See toll-free dialing restrictions at https://www.webex.com/pdf/tollfree_restrictions.pdf)

For assistance: Contact the host, Mark Abbott at mabbott@eac.gov.

Purpose: In accordance with the Federal Advisory Committee Act (FACA), Public Law 92-463, as amended (5 U.S.C. Appendix 2), the U.S. Election Assistance Commission (EAC) Board of Advisors will conduct a conference call to discuss current EAC activities.

Agenda: The Board of Advisors (BOA) will receive updates from EAC staff regarding HAVA Payment Disbursements; the EAC Election Data Summit; the EAC Language Summit; and EAC Videos. The Board of Advisors will receive updates from the following BOA Committees: Resolutions; Voluntary Voting System Guidelines (VVSG); By-Laws; and Strategic Planning. The Board of Advisors will discuss the next Quarterly BOA Conference Call. There will be no votes conducted on this call.

Supplementary: Members of the public may submit relevant written statements to the Board of Advisors with respect to the meeting no later than 5:00 p.m. EDT on Friday, August 24, 2018. Statements may be sent via email at facaboards@eac.gov, via standard mail addressed to the U.S. Election Assistance Commission, 1335 East West Highway, Suite 4300, Silver Spring, MD 20910, or by fax at 301-734-3108.

This Conference Call Will Be Open to the Public.

Person to Contact for Information: Bryan Whitener, Telephone: (301) 563-3961.

Bryan Whitener,
Director, National Clearinghouse on Elections, U.S. Election Assistance Commission.

[FR Doc. 2018-18025 Filed 8-20-18; 8:45 am]

BILLING CODE 6820-KF-P